DEPARTMENT OF COMMERCE

Foreign-Trade Zones Board

[Order No. 1666]

Expansion/Reorganization of Foreign-Trade Zone 149; Port Freeport, TX

Pursuant to its authority under the Foreign-Trade Zones Act of June 18, 1934, as amended (19 U.S.C. 81a-81u), the Foreign-Trade Zones Board (the Board) adopts the following Order:

Whereas, Port Freeport, grantee of Foreign-Trade Zone 149, submitted an application to the Board for authority to expand FTZ 149 to include two sites in Fort Bend County, Texas, adjacent to the Freeport Customs and Border Protection port of entry (FTZ Docket 69-2008, filed 12/11/2008, amended 7/31/2009);

Whereas, notice inviting public comment has been given in the Federal Register (73 FR 78289, 12/22/2008 and 74 FR 42050, 8/20/2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 149 is approved, subject to the FTZ Act and the Board's regulations, including Section 400.28, and to the Board's standard 2,000-acre activation limit for the overall general-purpose zone project, and further subject to a sunset provision that would terminate authority on February 28, 2017 for Sites 11 and 12 where no activity has occurred under FTZ procedures before that date.

Signed at Washington, DC, February 23, 2010.
Ronald K. Lorentzen,
Deputy Assistant Secretary for Import Administration, Alternate Chairman, Foreign-Trade Zones Board.

[FR Doc. 2010-5829 Filed 3-16-10; 8:45 am]

BILLING CODE 3510-DS-P